DEPARTMENT OF ENERGY

Federal Energy Regulatory Commission

[Docket No. EC01-88-000, et al.]

San Gorgonio Power Corporation, et al.; Electric Rate and Corporate Regulation Filings

April 13, 2001.

1. San Gorgonio Power Corporation, Mountain View Power Partners II, LLC and SeaWest WindPower, Inc.

[Docket No. EC01-88-000]

Take notice that on April 11, 2001, San Gorgonio Power Corporation (San Gorgonio), Mountain View Power Partners II, LLC (Mountain View II) and SeaWest WindPower, Inc. (SeaWest) filed with the Federal Energy Regulatory Commission (Commission) an application pursuant to section 203 of the Federal Power Act for authorization of a disposition of jurisdictional facilities whereby San Gorgonio will acquire 100% of the membership interests in Mountain View II. Mountain View II is constructing a 22.2 MW wind power generating plant (Project) located in San Gorgonio Pass of Riverside County, California, and estimated to begin producing test power for sale in April 2001. Mountain View II is currently wholly owned by SeaWest. Pursuant to an acquisition agreement, the Transaction would be consummated after the Project commences commercial operation, which is expected to occur by June 15, 2001. The Transaction is expected to result in the disposition of Commission-jurisdictional facilities consisting of Mountain View II's market-based rate tariff and minor interconnection facilities connecting the Project to the transmission facilities of Southern California Edison. Applicants have requested privileged treatment for the Acquisition Agreement between SeaWest and San Gorgonio.

A copy of this Application was served upon the California Public Utilities Commission.

Comment date: May 2, 2001, in accordance with Standard Paragraph E at the end of this notice.

2. Aroostook Valley Electric Company

[Docket No. EG01-184-000]

Take notice that on April 11, 2001, Aroostook Valley Electric Company (the Applicant), with its principal office at 700 Universe Boulevard, Juno Beach, Florida 33408, filed with the Commission an application for determination of exempt wholesale generator status pursuant to Part 365 of the Commission's regulations.

Applicant states that it is a Maine corporation engaged directly and exclusively in the business of owning an approximately 31 MW wood-burning generating facility located in Fort Fairfield, Maine. Electric energy produced by the facility will be sold at wholesale or at retail exclusively to foreign consumers.

Comment date: May 4, 2001, in accordance with Standard Paragraph E at the end of this notice. The Commission will limit its consideration of comments to those that concern the adequacy or accuracy of the application.

3. Dynegy Power Marketing, Inc.

[Docket No. ER94-968-032]

Take notice that on April 9, 2001, Dynegy Power Marketing, Inc. tendered for filing in compliance with the Commission's April 7, 1994 order in the above-referenced proceeding.

Comment date: April 30, 2001, in accordance with Standard Paragraph E at the end of this notice.

4. PJM Interconnection, L.L.C.

[Docket No. ER01-1000-000]

Take notice that on April 9, 2001, PJM Interconnection, L.L.C. (PJM), pursuant to the Order issued March 15, 2001 in this proceeding, tendered for filing a redesignated Interconnection Service Agreement between PJM and NRG Energy Center Dover LLC (NRG).

Copies of this filing were served upon NRG and the state electric utility regulatory commissions within the PJM control area.

Comment date: April 30, 2001, in accordance with Standard Paragraph E at the end of this notice.

5. Public Service Electric and Gas Company

[Docket No. ER01-261-001]

Take notice that on April 5, 2001, Public Service Electric and Gas Company tendered for filing an Interconnection Agreement (IA) with JEDI Linden NB, L.L.C. (Jedi Linden) and Tosco Refining, L.P. (Tosco). Therein PSE&G requested a waiver of the Commission's prior notice requirement to permit an effective dated for the IA as of the date of Initial Operation, as defined in the IA.

This filing was noticed by the Commission on November 2, 2000.

Comment date: April 26, 2001, in accordance with Standard Paragraph E at the end of this notice.

6. Alabama Power Company

[Docket No. ER01-602-005]

Take notice that on April 6, 2001, Alabama Power Company tendered for filing original tariff sheets for its Rate Schedule No. 165 compliant with the formatting requirements of Commission Order No. 614.

Comment date: April 27, 2001, in accordance with Standard Paragraph E at the end of this notice.

7. Southern Company Services, Inc.

[Docket No. ER01-602-006]

Take notice that on April 6, 2001, Southern Company Services, Inc., as agent for Alabama Power Company (APC), tendered for filing rate schedule sheets compliant with Commission Order No. 614 for Alabama Power Company Rate Schedule FERC No. 145.

Comment date: April 27, 2001, in accordance with Standard Paragraph E at the end of this notice.

8. Central Maine Power Company

[Docket No. ER01-1145-001]

Take notice that on April 9, 2001, Central Maine Power Company (CMP), tendered for filing, pursuant to the Federal Energy Regulatory Commission's (FERC or the Commission) directive issued March 15, 2001 in the above referenced Docket No., Settlement and Release Agreements between Central Maine Power Company (CMP) and Engage Energy America Corp. (Engage), to comply with Order No. 614, FERC Stats. & Regs. ¶ 31, 096 (2000).

CMP respectfully requests that the Commission accept both Settlement and Release Agreements, effective as of December 29, 2000 and without modification or condition, as requested in its initial filing of January 31, 2001.

Comment date: April 30, 2001, in accordance with Standard Paragraph E at the end of this notice.

9. Cordova Energy Company L.L.C.

[Docket No. ER01-1210-001]

Take notice that on April 10, 2001, Cordova Energy Company LLC (Cordova) tendered for filing the cover and first page of an Amendment to a Power Purchase Agreement between Cordova and MidAmerican Energy Company designated in compliance with the Commission's Order No. 614 pursuant to an unreported letter order dated March 29, 2001 in the above-captioned docket.

Comment date: May 1, 2001, in accordance with Standard Paragraph E at the end of this notice.

10. PJM Interconnection, L.L.C.

[Docket No. ER01-1343-001]

Take notice that on April 11, 2001, PJM Interconnection, L.L.C. (PJM), tendered for filing revised sheets to update its currently effective FERC Electric Tariff, Fourth Revised Volume No. 1.

Copies of this filing were served upon all PJM Members, and the state electric utility commissions within the PJM control area.

Comment date: May 2, 2001, in accordance with Standard Paragraph E at the end of this notice.

11. American Transmission Systems, Inc.; and Ohio Edison Company, and The Cleveland Electric Illuminating Company, and The Toledo Edison Company

[Docket No. ER01-1766-000]

Take notice that on April 10, 2001, American Transmission Systems, Inc.. tendered for filing on behalf of itself and Ohio Edison Company, The Cleveland Electric Illuminating Company, and The Toledo Edison Company, a Service Agreement for Network Integration Service and Operating Agreement for the Network Integration Transmission Service under the Ohio Retail Electric Program with Advantage Energy, Inc. pursuant to the American Transmission Systems, Inc. Open Access Tariff.

This agreement will enable the party to obtain Network Integration Service under the Ohio Retail Electric Program in accordance with the terms of the Tariff. The proposed effective date under this agreement is April 10, 2001.

Comment date: May 1, 2001, in accordance with Standard Paragraph E at the end of this notice.

12. Idaho Power Company

[Docket No. ER01-1767-000]

Take notice that on April 10, 2001, Idaho Power Company (IPC) tendered for filing Service Agreements for Firm and Non-Firm Point-to-Point Transmission Service between Idaho Power Company and Exelon Generation, LLC.

Comment date: May 1, 2001, in accordance with Standard Paragraph E at the end of this notice.

13. Central Illinois Light Company

[Docket No. ER01-1768-000]

Take notice that on April 10, 2001, Central Illinois Light Company (CILCO), 300 Liberty Street, Peoria, Illinois 61602, tendered for filing an Interconnection Agreement with Altorfer Inc. for Generation Interconnection and Parallel Operation.

CILCO requested an effective date of June 1, 2001.

Copies of the filing were served on the affected customer and the Illinois Commerce Commission.

Comment date: May 1, 2001, in accordance with Standard Paragraph E at the end of this notice.

14. Idaho Power Company

[Docket No. ER01-1769-000]

Take notice that on April 10, 2001, Idaho Power Company (IPC) tendered for filing with the Federal Energy Regulatory Commission Service Agreements for Firm and Non-Firm Point-to-Point Transmission Service between Idaho Power Company and Mirant Americas Energy Marketing, LP.

Comment date: May 1, 2001, in accordance with Standard Paragraph E at the end of this notice.

15. Central Illinois Light Company

[Docket No. ER01-1770-000]

Take notice that on April 10, 2001, Central Illinois Light Company (CILCO), 300 Liberty Street, Peoria, Illinois 61602, tendered for filing a substitute Index of Network Transmission Service Customers under its Open Access Transmission Tariff and one network service agreement for one existing customer, Corn Belt Energy Corporation.

CILCO requested an effective date of April 1, 2001 for the service agreement.

Copies of the filing were served on the affected customer and the Illinois Commerce Commission.

Comment date: May 1, 2001, in accordance with Standard Paragraph E at the end of this notice.

16. Idaho Power Company

[Docket No. ER01-1771-000]

Take notice that on April 10, 2001, Idaho Power Company tendered for filing under its Market-Based Rates Tariff the Power Purchase Agreement between Idaho Power Company, Doing Business as IDACORP Energy, and the City of Oakland, California, Acting by and through Its Board of Port Commissioners, for Wholesale Electricity Supply and Related Services at the Metropolitan Oakland International Airport and at the Former FISCO Facilities, dated December 28, 2000. Idaho Power Company requests an effective date of June 10, 2001.

Comment date: May 1, 2001, in accordance with Standard Paragraph E at the end of this notice.

17. PJM Interconnection, L.L.C.

[Docket No. ER01-1776-000]

Take notice that on April 11, 2001 PJM Interconnection, L.L.C. (PJM), tendered for filing an executed interconnection service agreement between PJM and PEI Power Corporation, and three executed interim interconnection service agreements between PJM and Exelon Corporation and Conectiv Mid-Merit Inc.

PJM requests a waiver of the Commission's 60-day notice requirement to permit the effective dates agreed to by the parties.

Copies of this filing were served upon each of the parties to the agreements the state regulatory commissions within the PJM control area.

Comment date: May 2, 2001, in accordance with Standard Paragraph E at the end of this notice.

18. Monroe Power Company

[Docket No. ER01-1777-000]

Take notice that on April 11, 2001, Monroe Power Company (MPC) tendered for filing an executed Service Agreement with AQUILA Energy Marketing Corporation under the provisions of MPC's Market-Based Rates Tariff, FERC Electric Tariff No. 1.

MPC is requesting an effective date of April 1, 2001 for this agreement.

Copies of the filing were served upon the North Carolina Utilities Commission, the South Carolina Public Service Commission and the Georgia Public Service Commission.

Comment date: May 2, 2001, in accordance with Standard Paragraph E at the end of this notice.

19. Commonwealth Electric Company

[Docket No. ER01-1782-000]

Take notice that on April 2, 2001, Commonwealth Electric Company (Commonwealth) tendered for filing proposed changes to its Open Access Transmission Tariff (OATT) to include a Standard Form of Interconnection Agreements (Interconnection Agreement).

The Interconnection Agreement will govern the rights and responsibilities of Commonwealth and new generators when generators seek to add new generation to Commonwealth's transmission system in compliance with Order No. 614.

Comment date: April 23, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-9754 Filed 4-19-01; 8:45 am]

BILLING CODE 6717-01-P